DEPARTMENT OF THE TREASURY

Internal Revenue Service

26 CFR Part 1

[TD 8168]

Income Taxes; Limitation on Deduction for Nonbusiness Interest: Personal Interest; Correction

AGENCY: Internal Revenue Service (IRS), Treasury.

ACTION: Correcting amendment.

SUMMARY: This document contains a correction to Treasury Decision 8168, which was published in the Federal Register on Tuesday, December 22, 1987 (52 FR 48407) relating to the treatment of personal interest and the treatment and determination of qualified residence interest.

DATES: This correction is effective on December 22, 1987.

FOR FURTHER INFORMATION CONTACT: Patricia Zweibel at (202) 622-5020 (not a toll-free number).

SUPPLEMENTARY INFORMATION:

Background

The final regulations that are the subject of this correction are under section 163(h) of the Internal Revenue Code.

Need for Correction

As published, TD 8168 contains an error which may prove to be misleading and is in need of clarification.

List of Subjects in 26 CFR Part 1

Income taxes, Reporting and recordkeeping requirements.

Correction of Publication

Accordingly, 26 CFR part 1 is corrected by making the following correcting amendment:

PART 1—INCOME TAXES

1. The authority citation for part 1 continues to read in part as follows:

Authority: 26 U.S.C. 7805 * * *

§ 1.163-9T [Corrected]

2. Section 1.163-9T(b)(2)(i)(A) is amended by removing the reference to “§ 1.168-8T” and adding the reference “§ 1.163-8T” in its place.

Cynthia Grigsby,
Chief, Regulations Unit, Associate Chief Counsel (Procedure and Administration).

[FR Doc. 03-6596 Filed 3-18-03; 8:45 am]

BILLING CODE 4830-01-P